DEPARTMENT OF COMMERCE

International Trade Administration

[A-533-809, A-583-821]

Certain Forged Stainless Steel Flanges From India and Taiwan; Final Results of Antidumping Duty Expedited Sunset Reviews

AGENCY: Import Administration, International Trade Administration, Department of Commerce.

ACTION: Notice of final results of antidumping duty expedited sunset reviews: Certain forged stainless steel flanges from India and Taiwan.

SUMMARY: On December 1, 1999, the Department of Commerce (“the Department”) published the notice of initiation of sunset reviews of the antidumping duty orders on forged stainless steel flanges (“flanges”) from India and Taiwan. The products covered by these orders are flanges, both finished and unfinished. On the basis of notices of intent to participate and adequate substantive comments filed on behalf of domestic interested parties and inadequate response from Indian respondent interested parties and no response from Taiwanese respondent interested parties, we determined to conduct expedited reviews. Based on our analysis of the comments received, we find that revocation of the antidumping duty orders would be likely to lead to continuation or recurrence of dumping at the levels listed below in the section entitled “Final Results of Reviews.”

EFFECTIVE DATE: April 6, 2000.

FOR FURTHER INFORMATION CONTACT: Mark D. Young, Import Administration, International Trade Administration, U.S. Department of Commerce, Washington, DC 20230; telephone: (202) 482-6397.

SUPPLEMENTARY INFORMATION:

Statute and Regulations

Unless otherwise indicated, all citations to the Tariff Act of 1930, as amended (“the Act”), are references to the provisions effective January 1, 1995, the effective date of the amendments made to the Act by Uruguay Round Agreements Act (“URAA”). In addition, unless otherwise indicated, all citations to the Department of Commerce's (“the Department's”) regulations are to 19 CFR part 351 (1999). Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Background

On December 1, 1999, the Department published the notice of initiation of sunset reviews of the antidumping duty orders on flanges from India and Taiwan (64 FR 67247). We received a Notice of Intent to Participate, in each of the two sunset reviews, on behalf of Gerlin, Inc. (“Gerlin”), Ideal Forging Corporation (“Ideal”), Maass Flange Corporation (“Maass”), and Westbrook Flange (collectively, the “domestic interested parties”), by December 16, 1999, within the deadline specified in section 351.218(d)(1)(i) of the Sunset Regulations. Pursuant to section 771(9)(C) of the Act, the domestic interested parties claimed interested party status as U.S. manufacturers of domestic like products. Moreover, Gerlin, Ideal, and Maass claim that they were petitioners in the original investigations.

The Department received a complete substantive response from the domestic interested parties, in each of the two sunset reviews, by January 3, 2000, within the 30-day deadline specified in the Sunset Regulations under section 351.218(d)(3)(i). We did not receive a substantive response from any Taiwanese respondent interested party. We did receive substantive responses from Echjay Forgings Limited and Pushpaman Exports in the sunset review of the Indian order. However, we determined that the responses were inadequate to warrant a full review because respondents did not account for at least 50 percent of the subject merchandise to the U.S. over the last five years, as required by 351.218(e)(1)(ii)(A).¹ As a result, pursuant to 19 CFR 351.218(e)(1)(ii)(C), the Department determined to conduct expedited, 120-day, reviews of these orders.

¹ See Policies Regarding the Conduct of Five-Year (“Sunset”) Reviews of Antidumping and Countervailing Duty Orders: Policy Bulletin, 63 FR 18871 (April 16, 1998).

Scope of Review

The merchandise subject to these orders is certain forged stainless steel flanges (“flanges”), both finished and unfinished, generally manufactured to specification ASTM A-182, and made in alloys such as 304, 304L, 316, and 316L. The scope includes five general types of flanges. They are weld neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of these orders are cast stainless steel flanges. Cast stainless steel flanges generally are manufactured to specification ASTM A-351. The flanges subject to these orders are currently classifiable under subheadings 7307.21.1000 and 7307.21.5000 of the Harmonized Tariff Schedule of the United States (“HTSUS”). Although the HTSUS subheading is provided for convenience and customs purposes, the written description of the subject merchandise remains dispositive.

These reviews cover imports from all manufacturers and exporters of flanges from India and Taiwan.

Analysis of Comments Received

All issues raised in the case by parties to these sunset reviews are addressed in the “Issues and Decision Memorandum” (“Decision Memo”) from Jeffrey A. May, Director, Office of Policy, Import Administration, to Robert S. LaRussa, Assistant Secretary for Import Administration, dated March 30, 2000, which is hereby adopted by this notice. The issues discussed in the attached Decision Memo include the likelihood of continuation or recurrence of dumping and the magnitude of the margin likely to prevail were the orders to be revoked. Parties can find a complete discussion of all issues raised in these reviews and the corresponding recommendations in this public memorandum which is on file in room B-099 in the main Commerce Building.

In addition, a complete version of the Decision Memo can be accessed directly on the Web at www.ita.doc.gov/import_admin/records/frn/. The paper copy and electronic version of the Decision Memo are identical in content.

Final Results of Reviews

We determine that revocation of the antidumping duty orders on flanges from India and Taiwan would be likely to lead to continuation or recurrence of dumping at the following percentage weighted-average margins:

Manufacturer/exporter | Margin (percent)
India:
Mukand, Ltd. | 210.00
Sunstar Metals Ltd. | 210.00
Bombay Forgings Pvt. Ltd. | 210.00
Dynafore | 210.00
Akai Impex Pvt. Ltd. | 18.56
All Others | 162.14
Taiwan:
Enlin Steel Corporation | 48.00
Ta Chen Stainless Pipe Co. | 48.00
Tay Precision Industries Co. | 48.00
All Others | 48.00

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing these determinations and notice in accordance with sections 751(c), 752, and 777(i)(1) of the Act.

Dated: March 30, 2000.
Robert S. LaRussa,
Assistant Secretary for Import Administration.

[FR Doc. 00-8560 Filed 4-5-00; 8:45 am]

BILLING CODE 3510-DS-P